DEPARTMENT OF LABOR

Occupational Safety and Health Administration

[Docket No. NRTL-2-98]

NSF International, Application for Expansion of Recognition

AGENCY: Occupational Safety and Health Administration (OSHA), Labor.

ACTION: Notice.

SUMMARY: This notice announces the application of NSF International (NSF) for expansion of its recognition as a Nationally Recognized Testing Laboratory (NRTL) under 29 CFR 1910.7, and presents the Agency's preliminary finding. This preliminary finding does not constitute an interim or temporary approval of this application.

DATES: Comments submitted by interested parties must be received no later than May 1, 2000.

ADDRESSES: Send comments concerning this notice to: Office of Technical Programs and Coordination Activities, NRTL Program, Occupational Safety and Health Administration, U.S. Department of Labor, 200 Constitution Avenue, NW, Room N3653, Washington, D.C. 20210.

FOR FURTHER INFORMATION CONTACT: Bernard Pasquet, Office of Technical Programs and Coordination Activities, NRTL Program at the above address, or phone (202) 693-2110.

SUPPLEMENTARY INFORMATION:

Notice of Application

The Occupational Safety and Health Administration (OSHA) hereby gives notice that NSF International (NSF) has applied for expansion of its current recognition as a Nationally Recognized Testing Laboratory (NRTL). NSF's expansion request covers the use of additional test standards.

OSHA recognition of an NRTL signifies that the organization has met the legal requirements in Section 1910.7 of Title 29, Code of Federal Regulations (29 CFR 1910.7). Recognition is an acknowledgment that the organization can perform independent safety testing and certification of the specific products covered within its scope of recognition, and is not a delegation or grant of government authority. As a result of recognition, OSHA can accept products “properly certified” by the NRTL. OSHA processes applications related to an NRTL's recognition following requirements in Appendix A to 29 CFR 1910.7. This appendix requires that the Agency publish this public notice of the preliminary finding on an application.

The most recent notices published by OSHA for the NSF recognition covered its initial recognition, which OSHA announced on August 8, 1998 (63 FR 46082) and granted on December 10, 1998 (63 FR 68309).

The current address of the NSF facility (site) recognized by OSHA is: NSF International, 789 Dixboro, Ann Arbor, Michigan 48105.

General Background on the Application

NSF has submitted a request, dated December 17, 1998 (see Exhibit 6A), to expand its recognition as an NRTL for six (6) additional test standards. Also, NSF has submitted a similar request, dated March 1, 1999 (see Exhibit 6B), for four (4) other test standards. OSHA has determined that two of the standards listed in the December 17 request are not “appropriate test standards,” as specified in 29 CFR 1910.7(c). Therefore, the expansion will only cover the eight (8) test standards listed below. OSHA temporarily withheld its consideration of NSF's requests pending notification by the NRTL of the certification of its first products under the NRTL Program. The Agency imposed a condition requiring such a notification when it recognized NSF. However, NSF recently informed the NRTL Program staff that it has not performed this certification. NSF would appear to have less opportunity to do so without this expansion, and the NRTL Program office has decided to proceed with granting NSF's requests. OSHA will continue to impose the condition for notification, which we state again in this notice.

NSF seeks recognition for testing and certification of products to demonstrate compliance to the eight (8) test standards listed below, and OSHA has determined the standards are appropriate, as prescribed by 29 CFR 1910.7(c). OSHA's recognition of any NRTL for a particular test standard is limited to equipment or materials (i.e., products) for which OSHA standards require third party testing and certification before use in the workplace. As a result, the Agency's recognition of an NRTL for a test standard excludes any product(s), falling within the scope of the test standard, for which OSHA has no such requirements.

ANSI/UL 94 Tests for Flammability of Plastic Materials for Parts in Devices and Appliances

ANSI/UL 621 Ice Cream Makers

ANSI/UL 651 Schedule 40 and 80 PVC Conduit

ANSI/UL 651A Type EB and A Rigid PVC Conduit and HDPE Conduit

ANSI/UL 749 Household [Electric] Dishwashers

UL 763 Motor-Operated Commercial Food Preparing Machines

ANSI/UL 1081 [Electric] Swimming Pool Pumps, Filters, and Chlorinators

UL 1821 Thermoplastic Sprinkler Pipe and Fittings for Fire Protection

The designations and titles of the above test standards were current at the time of the preparation of this notice.

Condition

As previously mentioned, OSHA included a condition in the Federal Register notice for the recognition of NSF, published on December 10, 1998 (63 FR 68309). The condition currently applies to NSF and will continue to apply as part of the expansion. The condition is as follows:

Within 30 days of certifying its first products under the NRTL Program, NSF will notify the OSHA NRTL Program Director so that OSHA may review NSF's implementation of procedures for testing and follow-up inspections of products covered within the scope of the above-listed test standards.

Preliminary Finding on the Application

NSF has submitted acceptable requests for expansion of its recognition as an NRTL. In processing these requests, OSHA did not perform an on-site review of NSF's NRTL testing facilities. However, NRTL Program assessment staff reviewed information pertinent to the request and, in a memo dated October 21, 1999 (see Exhibit 7), recommended the expansion of NSF's recognition to include the additional test standards listed above.

Following a review of the application file, the assessor's recommendation, and other pertinent documents, the NRTL Program staff has concluded that OSHA can grant, to the NSF facility listed above, the expansion of recognition to use the additional eight (8) test standards, with the condition to be applied as noted. The staff therefore recommended to the Assistant Secretary that the applications be preliminarily approved.

Based upon the recommendation of the staff, the Assistant Secretary has made a preliminary finding that the NSF International facility listed above can meet the recognition requirements, as prescribed by 29 CFR 1910.7, for the expansion of recognition, subject to the above condition. This preliminary finding does not constitute an interim or temporary approval of the application.

OSHA welcomes public comments, in sufficient detail, as to whether NSF has met the requirements of 29 CFR 1910.7 for the expansion of its recognition as a Nationally Recognized Testing Laboratory. Your comment should consist of pertinent written documents and exhibits. To consider it, OSHA must receive the comment at the address provided above (see ADDRESSES), no later than the last date for comments (see DATES above). You may obtain or review copies of NSF requests, the memo on the recommendation, and all submitted comments, as received, by contacting the Docket Office, Room N2625, Occupational Safety and Health Administration, U.S. Department of Labor, at the above address. You should refer to Docket No. NRTL-2-98, the permanent record of public information on the NSF recognition.

The NRTL Program staff will review all timely comments and, after resolution of issues raised by these comments, will recommend whether to grant the NSF expansion requests. The Assistant Secretary will make the final decision on granting the expansion and, in making this decision, may undertake other proceedings prescribed in Appendix A to 29 CFR Section 1910.7. OSHA will publish a public notice of this final decision in the Federal Register.

Signed at Washington, D.C. this 10th day of February, 2000.
Charles N. Jeffress,
Assistant Secretary.

[FR Doc. 00-4965 Filed 3-1-00; 8:45 am]

BILLING CODE 4510-26-P